DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 04-023. Applicant: Oklahoma Medical Research Foundation, 825 NE. 13th, Oklahoma City, Oklahoma 73104.

Instrument: Electron Microscope, Model H-7600-1 TEM.

Manufacturer: Instruments, Hitachi Ltd., Japan.

Intended Use: The instrument is intended to be used to examine and record images of biological specimens from various basic biomedical research laboratories to increase understanding of and to direct basic biomedical research to gain a better understanding of biological phenomena. It will be used to support NIH and NSF-funded research and to train graduate students and postdoctoral investigators.

Application accepted by Commissioner of Customs: November 30, 2004.

Gerald A. Zerdy,
Program Manager, Statutory Import Programs Staff.

[FR Doc. 04-28523 Filed 12-28-04; 8:45 am]

BILLING CODE 3510-DS-P